FEDERAL MARITIME COMMISSION

Sunshine Act Meetings

TIME AND DATE: January 25, 2023; 10:00 a.m.

PLACE: This meeting will be held at the Federal Maritime Commission at the address below and also streamed live at Federal Maritime Commission's YouTube Channel.

Federal Maritime Commission, 800 North Capitol St NW, 1st Floor Hearing Room, Washington, DC 20573

STATUS: Part of the meeting will be open to the public: held in-person at the Federal Maritime Commission for public attendants and also available to view streamed live on the Federal Maritime Commission's YouTube Channel. The rest of the meeting will be closed to the public.

The hearing will be held on January 25, 2023, at 10:00 a.m. in the Hearing Room of the Federal Maritime Commission and will be open for public observation. If technical issues prevent the Commission from live streaming, the Commission will post a recording of the public portion of the meeting on the Commission's YouTube Channel. Any person wishing to attend the meeting in-person should report to the Federal Maritime Commission with enough time to clear building security procedures. Health and safety protocols for meeting attendees will depend on the COVID-19 Community Transmission Level for Washington DC as determined on Friday, January 20, 2023. Pre-registered attendees will be notified of the required health and safety protocols before the meeting and no later than Tuesday, January 25, 2023. Additional meeting guidance can be found on www.fmc.gov.

MATTERS TO BE CONSIDERED:

PORTIONS OPEN TO THE PUBLIC:

1. Commissioner Bentzel, Update on Maritime Transportation Data Initiative

2. Staff Briefing on Ocean Shipping Reform Act of 2022

3. Staff Briefing, Economic and Competition Update

PORTIONS CLOSED TO THE PUBLIC:

1. Staff Briefing, Economic and Competition Update

CONTACT PERSON FOR MORE INFORMATION: William Cody, Secretary, (202) 523-5725.

William Cody,
Secretary.

[FR Doc. 2023-01086 Filed 1-17-23; 4:15 pm]

BILLING CODE 6730-02-P